FEDERAL RESERVE SYSTEM

Notice of Meeting of Consumer Advisory Council; Correction

This notice corrects a notice (FR Doc. 02-4490) published on page 8802 of the issue for February 26, 2002.

Under the Consumer Advisory Council, the entry is revised to read as follows:

The Consumer Advisory Council will meet on Thursday, March 14, 2002. The meeting, which will be open to public observation, will take place at the Federal Reserve Board’s offices in Washington, DC, in Dining Room E on the Terrace level of the Martin Building. Anyone planning to attend the meeting should, for security purposes, register no later than Tuesday, March 12, by completing this form on line: http://www.federalreserve.gov/ConsumerRegistration.cfm. In addition, attendees must present photo identification to enter the building.

The meeting will begin at 9:00 a.m. and is expected to conclude at 1:00 p.m. The Martin Building is located on C Street, Northwest, between 20th and 21st Streets.

The Council’s function is to advise the Board on the exercise of the Board’s responsibilities under the various consumer financial services laws and on other matters on which the Board seeks its advice. Time permitting, the Council will discuss the following topics:

Home Mortgage Disclosure Act - Discussion of issues related to recent amendments to Regulation C, which implements the Home Mortgage Disclosure Act.

Equal Credit Opportunity Act - Discussion of issues raised by proposed rules in the review of Regulation B, which implements the Equal Credit Opportunity Act.

Community Reinvestment Act - Discussion of issues identified in connection with the current review of Regulation BB, which implements the Community Reinvestment Act.

Committee Reports - Council committees will report on their work.

Other matters initiated by Council members also may be discussed.

Persons wishing to submit views to the Council on any of the above topics may do so by sending written statements to Ann Bistay, Secretary of the Consumer Advisory Council, Division of Consumer and Community Affairs, Board of Governors of the Federal Reserve System, Washington, DC 20551. Information about this meeting may be obtained from Ms. Bistay, 202-452-6470.

Board of Governors of the Federal Reserve System, March 1, 2002.
Jennifer J. Johnson,
Secretary of the Board.

[FR Doc. 02-5426 Filed 3-6-02; 8:45 am]

BILLING CODE 6210-01-S